DEPARTMENT OF COMMERCE

[Docket No.: 150619534-5740-02]

Privacy Act of 1974, Abolished System of Records

AGENCY: U.S. Department of Commerce, National Institute of Standards and Technology

ACTION: Final notice to delete a Privacy Act System of Records: “COMMERCE/NBS-2, Inventors of Energy-Related Processes and Devices.”

SUMMARY: The Department of Commerce publishes this notice to announce the effective date of a deletion of a Privacy Act System of Records notice COMMERCE/NBS-2, Inventors of Energy-Related Processes and Devices.

DATES: This system of records will be deleted on August 25, 2015.

ADDRESSES: Director, Management and Organization Office, 100 Bureau Drive, Mail Stop 1710, Gaithersburg, MD 20899-1710, 301-975-4074.

FOR FURTHER INFORMATION CONTACT: Director, Management and Organization Office, 100 Bureau Drive, Mail Stop 1710, Gaithersburg, MD 20899-1710, 301-975-4074.

SUPPLEMENTARY INFORMATION: On July 14, 2015 (80 FR 40997), the Department of Commerce published a notice in the Federal Register requesting comments on the deletion of a Privacy Act System of Records entitled COMMERCE/NBS-2, Inventors of Energy-Related Processes and Devices. The system of records is no longer collected or maintained by the National Institute of Standards and Technology. There are no records remaining in the system. No comments were received in response to the request for comments. By this notice, the Department of Commerce is deleting this system of records on August 25, 2015.

Dated: August 19, 2015.
Michael J. Toland,
Department of Commerce, Acting Freedom of Information and Privacy Act Officer.

[FR Doc. 2015-20971 Filed 8-24-15; 8:45 am]

BILLING CODE 3510-13-P